DEPARTMENT OF ENERGY

Federal Energy Regulatory Commission

Combined Notice of Filings #2

Take notice that the Commission received the following electric corporate filings:

Docket Numbers: EC13-20-000.

Applicants: WPS Empire State, Inc., WPS Beaver Falls Generation, LLC, WPS Syracuse Generation, LLC, Lakeside New York, LLC.

Description: Joint Application for Authorization Under Section 203 of the Federal Power Act for Disposition of Jurisdictional Facilities and Request for Confidential Treatment of the WPS Entities and Lakeside New York, LLC.

Filed Date: 10/24/12.

Accession Number: 20121024-5054.

Comments Due: 5 p.m. ET 11/14/12.

Docket Numbers: EC13-21-000.

Applicants: LWP Lessee, LLC.

Description: Application of LWP Lessee, LLC for Approval under Section 203 of the Federal Power Act and Requests for Expedited Consideration and Confidential Treatment.

Filed Date: 10/24/12.

Accession Number: 20121024-5090.

Comments Due: 5 p.m. ET 11/14/12.

Docket Numbers: EC13-22-000.

Applicants: Wellhead Power Delano, LLC, W Power, LLC.

Description: Application for Authorization for Disposition of Jurisdictional Facilities and Request for Expedited Consideration of Wellhead Power Delano, LLC and W Power, LLC.

Filed Date: 10/24/12.

Accession Number: 20121024-5092.

Comments Due: 5 p.m. ET 11/14/12.

Take notice that the Commission received the following electric rate filings:

Docket Numbers: ER10-2563-001.

Applicants: Wisconsin Electric Power Company.

Description: Amendment to Application of Wisconsin Electric Power Company—Triennial Market Power Analysis.

Filed Date: 9/14/12.

Accession Number: 20120914-5058.

Comments Due: 5 p.m. ET 11/5/12.

Docket Numbers: ER12-2233-000.

Applicants: Berry Petroleum Company.

Description: Refund Report to be effective N/A.

Filed Date: 10/24/12.

Accession Number: 20121024-5005.

Comments Due: 5 p.m. ET 11/14/12.

Docket Numbers: ER12-2640-001.

Applicants: Electric Energy, Inc.

Description: Electric Energy, Inc. submits tariff filing per 35: Rate Schedule to be effective 1/1/2013.

Filed Date: 10/24/12.

Accession Number: 20121024-5014.

Comments Due: 5 p.m. ET 11/14/12.

Docket Numbers: ER13-167-001.

Applicants: Caerus Energy, LLC.

Description: Caerus Energy, LLC Market Based Rate Tariff Amendment to be effective 10/24/2012.

Filed Date: 10/24/12.

Accession Number: 20121024-5076.

Comments Due: 5 p.m. ET 11/14/12.

Docket Numbers: ER13-178-000.

Applicants: Southwest Power Pool, Inc.

Description: Revisions to Attachment M—Westar Energy, Inc. Loss Factor Update to be effective 9/1/2012.

Filed Date: 10/24/12.

Accession Number: 20121024-5049.

Comments Due: 5 p.m. ET 11/14/12.

Docket Numbers: ER13-179-000.

Applicants: Southwest Power Pool, Inc.

Description: Submission of Notice of Cancellation of 1903 Novus Wind II, LLC LGIA to be effective 1/8/2013.

Filed Date: 10/24/12.

Accession Number: 20121024-5052.

Comments Due: 5 p.m. ET 11/14/12.

Docket Numbers: ER13-180-000.

Applicants: Southern California Edison Company.

Description: Amended Eldorado Co-Tenancy Agmt & Amended Eldorado Operating Agmt to be effective 10/25/2012.

Filed Date: 10/24/12.

Accession Number: 20121024-5060.

Comments Due: 5 p.m. ET 11/14/12.

Docket Numbers: ER13-181-000.

Applicants: AEP Texas Central Company.

Description: TCC-South Texas EC IA Amend 3 to be effective 9/24/2012.

Filed Date: 10/24/12.

Accession Number: 20121024-5087.

Comments Due: 5 p.m. ET 11/14/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2012.
Nathaniel J. Davis, Sr.,
Deputy Secretary.

[FR Doc. 2012-26750 Filed 10-30-12; 8:45 am]

BILLING CODE 6717-01-P